DEPARTMENT OF VETERANS AFFAIRS

Advisory Committee on Disability Compensation, Notice of Meeting

The Department of Veterans Affairs (VA) gives notice under the Federal Advisory Committee Act, 5 U.S.C. ch. 10, that the Advisory Committee on Disability Compensation (hereinafter the Committee) will hold virtual meeting sessions on Monday, June 24, 2024, through Wednesday, June 26, 2024. The meeting sessions will begin, and end as follows:

Date | Time
Monday, June 24, 2024 | 10:00 a.m. to 1:30 p.m. Eastern Standard Time (EST).
Tuesday, June 25, 2024 | 10:00 a.m. to 1:30 p.m. Eastern Standard Time (EST).
Wednesday, June 26, 2024 | 10:00 a.m. to 1:30 p.m. Eastern Standard Time (EST).

The meeting sessions are open to the public.

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the VASRD, and give advice on the most appropriate means of responding to the needs of Veterans relating to disability compensation in the future.

On Monday, June 24, 2024, through Wednesday, June 26, 2024, the agenda will include overview presentations, updates from various staffs on new and ongoing VA initiatives and priorities, and a review and discussions of the 2022 Biennial Report.

In addition, on Wednesday, June 26, 2024, the public comment period will be open for 30-minutes from 11:00 a.m. to 11:30 a.m. EST. The public can also submit one-page summaries of their written statements for the Committee's review. Public comments may be received no later than June 14, 2024, for inclusion in the official meeting record. Please send these comments to Jadine Piper of the Veterans Benefits Administration, Compensation Service, at 21C_ACDC.VBACO@va.gov.

Members of the public who wish to obtain a copy of the agenda should contact Jadine Piper at 21C_ACDC.VBACO@va.gov, and provide their name, professional affiliation, email address and phone number. The call-in number (United States, Chicago) for those who would like to attend the meeting is: 872-701-0185; phone conference ID: 170 422 972#. Members of the public may also access the meeting by pasting the following URL into a web browser: https://bit.ly/4aTik69.

Dated: May 21, 2024.
Jelessa M. Burney,
Federal Advisory Committee Management Officer.

[FR Doc. 2024-11541 Filed 5-24-24; 8:45 am]

BILLING CODE 8320-01-P